NUCLEAR REGULATORY COMMISSION

[NRC-2023-0046]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by March 23, 2023. A request for a hearing or petitions for leave to intervene must be filed by April 24, 2023. This monthly notice includes all amendments issued, or proposed to be issued, from January 6, 2023, to February 2, 2023. The last monthly notice was published on January 24, 2023.

ADDRESSES: You may submit comments by any of the following methods; however, the NRC encourages electronic comment submission through the Federal rulemaking website:

• Federal rulemaking website: Go to https://www.regulations.gov and search for Docket ID NRC-2023-0046. Address questions about Docket IDs in Regulations.gov to Stacy Schumann; telephone: 301-415-0624; email: Stacy.Schumann@nrc.gov. For technical questions, contact the individual listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington, DC 20555-0001, telephone: 301-415-2242, email: Paula.Blechman@nrc.gov.

SUPPLEMENTARY INFORMATION:

I. Obtaining Information and Submitting Comments

A. Obtaining Information

Please refer to Docket ID NRC-2023-0046, facility name, unit number(s), docket number(s), application date, and subject when contacting the NRC about the availability of information for this action. You may obtain publicly available information related to this action by any of the following methods:

• Federal Rulemaking Website: Go to https://www.regulations.gov and search for Docket ID NRC-2023-0046.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0046, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's public website at https://www.nrc.gov/reading-rm/doc-collections/cfr. If a petition is filed, the Commission or a presiding officer will rule on the petition and, if appropriate, a notice of a hearing will be issued.

As required by 10 CFR 2.309(d), the petition should specifically explain the reasons why intervention should be permitted with particular reference to the following general requirements for standing: (1) the name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Constellation Energy Generation, LLC; Calvert Cliffs Nuclear Power Plant, Units 1 and 2; Calvert County, MD
Docket No(s) | 50-317, 50-318.
Application Date | April 20, 2022.
ADAMS Accession No | ML22110A155.
Location in Application of NSHC | Pages 7-8 of Attachment 1.
Brief Description of Amendment(s) | The proposed amendments would delete certain license conditions, which impose specific requirements on the decommissioning trust agreement with the Calvert Cliffs Nuclear Power Plant, Units 1 and 2 facility operating licenses.
Proposed Determination | NSHC.
Name of Attorney for Licensee, Mailing Address | Jason Zorn, Associate General Counsel, Constellation Energy Generation, 101 Constitution Ave. NW, Suite 400 East, Washington, DC 20001.
NRC Project Manager, Telephone Number | Sujata Goetz, 301-415-8004.
Constellation Energy Generation, LLC; Calvert Cliffs Nuclear Power Plant, Units 1 and 2; Calvert County, MD; Nine Mile Point Nuclear Station, LLC and Constellation Energy Generation, LLC; Nine Mile Point Nuclear Station, Unit 2; Oswego County, NY
Docket No(s) | 50-317, 50-318, 50-410.
Application Date | October 25, 2022.
ADAMS Accession No | ML22298A011.
Location in Application of NSHC | Pages 4-5 of Attachment 1.
Brief Description of Amendment(s) | The proposed amendments would incorporate the NRC-approved Technical Specifications Task Force (TSTF) Improved Standard Technical Specifications Change Traveler TSTF-295-A, Revision 0, “Modify Note 2 to Actions of PAM [Post-Accident Monitoring] Table to Allow Separate Condition Entry for Each Penetration.” This change is a clarification to the Calvert Cliffs Nuclear Power Plant, Units 1 and 2, and Nine Mile Point Nuclear Station, Unit 2 (NMP2), technical specifications (TSs), which identifies that a separate condition entry is allowed for each penetration flow path for the PAM primary containment isolation valve position indication function. The change also clarifies in the NMP2 TSs that a separate condition entry is allowed for each quadrant for the post-accident suppression pool water temperature indication function.
Proposed Determination | NSHC.
Name of Attorney for Licensee, Mailing Address | Jason Zorn, Associate General Counsel, Constellation Energy Generation, 101 Constitution Ave. NW, Suite 400 East, Washington, DC 20001.
NRC Project Manager, Telephone Number | Sujata Goetz, 301-415-8004.
Constellation Energy Generation, LLC; Clinton Power Station, Unit 1; DeWitt County, IL
Docket No(s) | 50-461.
Application Date | January 13, 2023.
ADAMS Accession No | ML23013A180.
Location in Application of NSHC | Pages 4-5 of Attachment 1.
Brief Description of Amendment(s) | The proposed amendment would adopt TSTF-332, Revision 1, “ECCS [Emergency Core Cooling System] Response Time Testing,” an approved change to the Improved Standard Technical Specifications. The proposed change would revise technical specification definitions for ECCS RESPONSE TIME, ISOLATION SYSTEM RESPONSE TIME, and REACTOR PROTECTION SYSTEM RESPONSE TIME to incorporate standardized wording that was developed after the initial Clinton Power Station amendment was received. By revising the definitions for response time testing and the associated implementing surveillance requirement (SR) bases, the details of which channel sensors are measured, and which are allowed to be assumed can be clearly delineated without needing to retain the individual SR notes.
Proposed Determination | NSHC.
Name of Attorney for Licensee, Mailing Address | Jason Zorn, Associate General Counsel, Constellation Energy Generation, 4300 Winfield Road, Warrenville, IL 60555.
NRC Project Manager, Telephone Number | Joel Wiebe, 301-415-6606.
Constellation Energy Generation, LLC; Limerick Generating Station, Units 1 and 2; Montgomery County, PA
Docket No(s) | 50-352, 50-353.
Application Date | November 17, 2022.
ADAMS Accession No | ML22321A105.
Location in Application of NSHC | Pages 18-21 of Attachment 1.
Brief Description of Amendment(s) | The proposed amendments would revise TSs related to the control room emergency fresh air supply system and the control room air conditioning (AC) system to be consistent with TSTF Traveler TSTF-477, Revision 3, “Add Action for Two Inoperable Control Room AC Subsystems,” and NUREG-1433, Revision 5, “Standard Technical Specifications—General Electric BWR [Boiling Water Reactor]/4 Plants.”
Proposed Determination | NSHC.
Name of Attorney for Licensee, Mailing Address | Jason Zorn, Associate General Counsel, Constellation Energy Generation, 101 Constitution Ave. NW, Suite 400 East, Washington, DC 20001.
NRC Project Manager, Telephone Number | V. Sreenivas, 301-415-2597.
Dominion Energy Nuclear Connecticut, Inc.; Millstone Power Station, Unit 3; New London County, CT
Docket No(s) | 50-423.
Application Date | December 28, 2022.
ADAMS Accession No | ML22362A102.
Location in Application of NSHC | Pages 1-3 of Attachment 2.
Brief Description of Amendment(s) | The proposed amendment would update a portion of the current criticality safety analysis to allow storage of a new fuel assembly design containing gadolinia as a neutron burnable poison.
Proposed Determination | NSHC.
Name of Attorney for Licensee, Mailing Address | W. S. Blair, Senior Counsel, Dominion Energy, Inc., 120 Tredegar St., RS-2, Richmond, VA 23219.
NRC Project Manager, Telephone Number | Richard Guzman, 301-415-1030.
DTE Electric Company; Fermi, Unit 2; Monroe County, MI
Docket No(s) | 50-341.
Application Date | December 16, 2022.
ADAMS Accession No | ML22350A504.
Location in Application of NSHC | Pages 15-17 of Enclosure 1.
Brief Description of Amendment(s) | The proposed amendment would modify the Fermi 2 TSs to revise the emergency diesel generator steady state frequency and voltage values in the SRs for TS 3.8.1, “AC [Alternating Current] Sources—Operating.” Specifically, the proposed TS changes would lower the upper bound of the SR steady ste voltage, lower the upper bound of the SR steady state frequency, and raise the lower bound of the SR steady state frequency.
Proposed Determination | NSHC.
Name of Attorney for Licensee, Mailing Address | Jon P. Christinidis, DTE Electric Company, Senior Expert Attorney—Regulatory, 1635 WCB, One Energy Plaza, Detroit, MI 48226.
NRC Project Manager, Telephone Number | Surinder Arora, 301-415-1421.
Entergy Operations, Inc.; Arkansas Nuclear One, Unit 1; Pope County, AR
Docket No(s) | 50-313.
Application Date | October 31, 2022.
ADAMS Accession No | ML22304A669.
Location in Application of NSHC | Pages 13-15 of the Enclosure.
Brief Description of Amendment(s) | The proposed amendment would revise Arkansas Nuclear One, Unit 1, Technical Specification (TS) 3.4.4, “RCS [Reactor Coolant System] Loops—MODES 1 and 2,” to eliminate Condition A, which allows one reactor coolant pump in each loop to be out of service for up to 18 hours.
Proposed Determination | NSHC.
Name of Attorney for Licensee, Mailing Address | Anna Vinson Jones, Assistant General Counsel, Entergy Services, Inc., 101 Constitution Avenue NW, Suite 200 East, Washington, DC 20001.
NRC Project Manager, Telephone Number | Thomas Wengert, 301-415-4037.
Entergy Operations, Inc.; Arkansas Nuclear One, Unit 1; Pope County, AR
Docket No(s) | 50-313.
Application date | December 22, 2022.
ADAMS Accession No | ML22356A249.
Location in Application of NSHC | Pages 5-6 of Attachment 1.
Brief Description of Amendment(s) | The proposed amendment would modify the Arkansas Nuclear One, Unit 1 technical specification requirements to permit the use of risk-informed completion times in accordance with TSTF Traveler TSTF-505, Revision 2, “Provide Risk Informed Extended Completion Times—RITSTF [Risk-Informed TSTF] Initiative 4b.”
Proposed Determination | NSHC.
Name of Attorney for Licensee, Mailing Address | Anna Vinson Jones, Assistant General Counsel/Legal Department, Entergy Operations, Inc., 101 Constitution Avenue NW, Washington, DC 20001.
NRC Project Manager, Telephone Number | Thomas Wengert, 301-415-4037.
Entergy Operations, Inc.; Waterford Steam Electric Station, Unit 3; St. Charles Parish, LA
Docket No(s) | 50-382.
Application Date | November 1, 2022.
ADAMS Accession No. | ML22305A693.
Location in Application of NSHC | Pages 21-23 of the Enclosure.
Brief Description of Amendment(s) | The proposed amendment would revise Waterford Steam Electric Station, Unit 3, TS ¾.3.2 Table 4.3-2, “Engineered Safety Features Actuation System Instrumentation Surveillance Requirements,” Table Notation (3), to remove the exemption from testing relays K114, K305, and K313 at power.
Proposed Determination | NSHC.
Name of Attorney for Licensee, Mailing Address | Anna Vinson Jones, Assistant General Counsel, Entergy Services, Inc., 101 Constitution Avenue NW, Suite 200 East, Washington, DC 20001.
NRC Project Manager, Telephone Number | Jason Drake, 301-415-8378.
Florida Power & Light Company, et al.; St. Lucie Plant, Unit Nos. 1 and 2; St. Lucie County, FL; Florida Power & Light Company; Turkey Point Nuclear Generating Unit Nos. 3 and 4; Miami-Dade County, FL; NextEra Energy Point Beach, LLC; Point Beach Nuclear Plant, Units 1 and 2; Manitowoc County, WI; NextEra Energy Seabrook, LLC; Seabrook Station, Unit No. 1; Rockingham County, NH.
Docket No(s) | 50-250, 50-251, 50-266, 50-301, 50-335, 50-389, 50-443.
Application Date | October 4, 2022, as supplemented by letter dated December 9, 2022.
ADAMS Accession No. | ML22278A031, ML22343A254.
Location in Application of NSHC | Pages 69-71 of Enclosure 1.
Brief Description of Amendment(s) | The proposed amendments would replace each site's emergency plan by creating a new fleet common emergency plan with site-specific annexes.
Proposed Determination | NSHC.
Name of Attorney for Licensee, Mailing Address | Steven Hamrick, Senior Attorney, 801 Pennsylvania Ave. NW, Suite 220, Washington, DC 20004.
NRC Project Manager, Telephone Number | Justin Poole, 301-415-2048.
NextEra Energy Seabrook, LLC; Seabrook Station, Unit 1; Rockingham County, NH
Docket No(s) | 50-443.
Application date | December 9, 2022.
ADAMS Accession No | ML22343A259.
Location in Application of NSHC | Pages 11-13 of the Enclosure.
Brief Description of Amendment(s) | The proposed amendment would modify the Seabrook Station, Unit No. 1, TS ¾.7.4, “Service Water System/Ultimate Heat Sink,” by increasing the allowable outage time for one inoperable cooling tower service water loop or one cooling tower cell. Additionally, the proposed amendment would make an editorial correction to TS Section 1.9.
Proposed Determination | NSHC.
Name of Attorney for Licensee, Mailing Address | Steven Hamrick, Senior Attorney, 801 Pennsylvania Ave. NW, Suite 220 Washington, DC 20004.
NRC Project Manager, Telephone Number | Justin Poole, 301-415-2048.
Nine Mile Point Nuclear Station, LLC and Constellation Energy Generation, LLC; Nine Mile Point Nuclear Station, Unit 1; Oswego County, NY
Docket No(s) | 50-220.
Application Date | December 15, 2022.
ADAMS Accession No | ML22349A108.
Location in Application of NSHC | Pages 7-9 of Attachment 1.
Brief Description of Amendment(s) | The proposed amendment would modify the TS requirements to permit use of risk informed completion times in accordance with TSTF Traveler TSTF-505, Revision 2, “Provide Risk-Informed Extended Completion Times—RITSTF Initiative [Risk-Informed TSTF] Initiative 4b,” for Nine Mile Point Nuclear Station, Unit 1.
Proposed Determination | NSHC.
Name of Attorney for Licensee, Mailing Address | Jason Zorn, Associate General Counsel, Constellation Energy Generation, 101 Constitution Ave. NW, Suite 400 East, Washington, DC 20001.
NRC Project Manager, Telephone Number | Richard Guzman, 301-415-1030.
Nine Mile Point Nuclear Station, LLC and Constellation Energy Generation, LLC; Nine Mile Point Nuclear Station, Unit 1; Oswego County, NY
Docket No(s) | 50-220.
Application Date | December 15, 2022.
ADAMS Accession No | ML22349A521.
Location in Application of NSHC | Pages 30-32 of the Enclosure.
Brief Description of Amendment(s) | The proposed amendment would modify the Nine Mile Point Nuclear Station, Unit 1 licensing basis to allow for the implementation of the provisions of 10 CFR 50.69, “Risk-informed categorization and treatment of structures, systems and components for nuclear power reactors.”
Proposed Determination | NSHC.
Name of Attorney for Licensee, Mailing Address | Jason Zorn, Associate General Counsel, Constellation Energy Generation, 101 Constitution Ave. NW, Suite 400 East, Washington, DC 20001.
NRC Project Manager, Telephone Number | Richard Guzman, 301-415-1030.
Southern Nuclear Operating Company, Inc.; Joseph M. Farley Nuclear Plant, Units 1 and 2; Houston County, AL
Docket No(s) | 50-348, 50-364.
Application Date | December 20, 2022
ADAMS Accession No | ML22354A087.
Location in Application of NSHC | Pages E-7-E-8 of the Enclosure.
Brief Description of Amendment(s) | The proposed amendments would revise the Joseph M. Farley Nuclear Plant, Units 1 and 2, TS 3.6.3, “Containment Isolation Valves,” SR 3.6.3.5 to eliminate the event-based testing of containment purge valves with resilient seals. The proposed amendment would eliminate “And within 92 days of opening the valve” from SR 3.6.3.5.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Vogtle Electric Generating Plant, Units 3 and 4; Burke County, GA
Docket No(s) | 52-025, 52-026.
Application Date | December 19, 2022.
ADAMS Accession No | ML22353A621.
Location in Application of NSHC | Pages 5-6 of Enclosure 1.
Brief Description of Amendment(s) | The proposed amendments would change TS SR 3.0.3 and the associated TS Bases to allow application of SR 3.0.3 when a surveillance has not been previously performed and to clarify the application of SR 3.0.3. These changes are consistent with NRC approved changes reflected in TSTF Traveler TSTF-529, “Clarify Use and Application Rules,” for SR 3.0.3.
Proposed Determination | NSHC.
Name of Attorney for Licensee, Mailing Address | Millicent Ronnlund, Vice President and General Counsel, Southern Nuclear Operating Co., Inc., P.O. Box 1295, Birmingham, AL 35201-1295.
NRC Project Manager, Telephone Number | Cayetano Santos, 301-415-7270.
Southern Nuclear Operating Company, Inc.; Vogtle Electric Generating Plant, Units 1 and 2; Burke County, GA
Docket No(s) | 50-424, 50-425.
Application Date | December 21, 2022.
ADAMS Accession No | ML22355A588.
Location in Application of NSHC | Pages E-17-E-19 of the Enclosure.
Brief Description of Amendment(s) | The proposed amendments would revise TS 1.1, “Use and Application Definitions” and add TS 5.5.23 “Online Monitoring Program.” Southern Nuclear Operating Company, Inc. proposes to use online monitoring (OLM) methodology as the technical basis to switch from time-based surveillance frequency for channel calibrations to a condition-based calibration frequency based on OLM results. The proposed amendments are based on the NRC-approved topical report AMS-TR-0720R2-A, “Online Monitoring Technology to Extend Calibration Intervals of Nuclear Plant Pressure Transmitters” (ML21235A493).
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Tennessee Valley Authority; Browns Ferry Nuclear Plant, Units 1, 2, and 3; Limestone County, AL
Docket No(s) | 50-259, 50-260, 50-296.
Application Date | December 20, 2022.
ADAMS Accession No | ML22354A111.
Location in Application of NSHC | Page E3 of the Enclosure.
Brief Description of Amendment(s) | The proposed amendments would delete TS 3.6.3.1, “Containment Atmosphere Dilution (CAD) System,” and the associated Bases, to modify containment combustible gas control requirements as permitted by 10 CFR 50.44. This proposed change is requested in accordance with approved Revision 2 to TSTF Traveler, TSTF-478-A, “BWR [Boiling Water Reactor] Technical Specification Changes that Implement the Revised Rule for Combustible Gas Control.”
Proposed Determination | NSHC.
Name of Attorney for Licensee, Mailing Address | David Fountain, Executive VP and General Counsel, Tennessee Valley Authority, 400 West Summit Hill Drive, WT 6A, Knoxville, TN 37902.
NRC Project Manager, Telephone Number | Kimberly Green, 301-415-1627.
Union Electric Company; Callaway Plant, Unit No. 1; Callaway County, MO
Docket No(s) | 50-483.
Application Date | December 01, 2022.
ADAMS Accession No | ML22335A507 (package).
Location in Application of NSHC | Pages 18-20 of the Enclosure.
Brief Description of Amendment(s) | The proposed amendment would revise the TS Bases and Final Safety Analysis Report, to allow use of one train of the normal, non-safety-related service water system to solely provide cooling water support for one of two redundant trains of TS-required equipment when both equipment trains are required to be Operable during cold shutdown/refueling conditions. The supported equipment/systems affected by the proposed change are the residual heat removal system and control room air conditioning system, as applicable during Modes 5 and 6. The applicable/affected TS limiting conditions for operation (LCOs) are TS LCO 3.4.8, “RCS [Reactor Coolant System] Loops—Mode 5, Loops Not Filled”; TS LCO 3.7.11, “Control Room Air Conditioning System (CRACS)”; and TS LCO 3.9.6, “Residual Heat Removal (RHR) and Coolant Circulation—Low Water Level.”
Proposed Determination | NSHC.
Name of Attorney for Licensee, Mailing Address | Jay E. Silberg, Pillsbury Winthrop Shaw Pittman LLP, 1200 17th St. NW, Washington, DC 20036.
NRC Project Manager, Telephone Number | Mahesh Chawla, 301-415-8371.
Vistra Operations Company LLC; Comanche Peak Nuclear Power Plant, Unit Nos. 1 and 2; Somervell County, TX
Docket No(s) | 50-445, 50-446.
Application Date | November 21, 2022.
ADAMS Accession No | ML22325A258.
Location in Application of NSHC | Pages 16-18 of the Enclosure.
Brief Description of Amendment(s) | The proposed amendments would revise TS 3.2.1, “Heat Flux Hot Channel Factor (FQ(Z)) (RAOC [Relaxed Axial Offset Control]-W(Z) Methodology,” and associated references in TS 5.6.5, “Core Operating Limits Report (COLR),” to implement the new FQ(Z) surveillance methodology of WCAP-17661-P-A, Revision 1. The proposed changes will reformulate the FQW(Z) approximation for FQ(Z), revise the surveillance requirements, and revise the required actions when FQ(Z) is not within limits.
Proposed Determination | NSHC.
Name of Attorney for Licensee, Mailing Address | Timothy P. Matthews, Esq., Morgan, Lewis and Bockius, 1111 Pennsylvania Avenue NW, Washington, DC 20004.
NRC Project Manager, Telephone Number | Dennis Galvin, 301-415-6256.
Wolf Creek Nuclear Operating Corporation; Wolf Creek Generating Station, Unit 1; Coffey County, KS
Docket No(s) | 50-482.
Application Date | December 1, 2022.
ADAMS Accession No | ML22335A570.
Location in Application of NSHC | Pages 3-4 of Attachment I.
Brief Description of Amendment(s) | The amendment would revise the Wolf Creek Generating Station, Unit 1, Technical Specifications to adopt TSTF-577, Revision 1, “Revised Frequencies for Steam Generator Tube Inspections.”
Proposed Determination | NSHC.
Name of Attorney for Licensee, Mailing Address | Thomas C. Poindexter, Nukelaw LLC, 66 Franklin Street, Unit 502, Annapolis, MD 21401.
NRC Project Manager, Telephone Number | Samson Lee, 301-415-3168.
Wolf Creek Nuclear Operating Corporation; Wolf Creek Generating Station, Unit 1; Coffey County, KS
Docket No(s) | 50-482.
Application Date | December 15, 2022.
ADAMS Accession No | ML22353A555.
Location in Application of NSHC | Pages 2-4 of Attachment I.
Brief Description of Amendment(s) | The proposed amendment would adopt TSTF Traveler TSTF-554, Revision 1, “Revise Reactor Coolant Leakage Requirements,” which is an approved change to the Standard Technical Specifications, into the Wolf Creek Generating Station, Unit 1, Technical Specifications.
Proposed Determination | NSHC.
Name of Attorney for Licensee, Mailing Address | Thomas C. Poindexter, Nukelaw LLC, 66 Franklin Street, Unit 502, Annapolis, MD 21401.
NRC Project Manager, Telephone Number | Samson Lee, 301-415-3168.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Duke Energy Progress, LLC; H. B. Robinson Steam Electric Plant, Unit No. 2; Darlington County, SC
Docket No(s) | 50-261.
Amendment Date | January 19, 2023.
ADAMS Accession No. | ML22329A298.
Amendment No(s) | 274.
Brief Description of Amendment(s) | The amendment revised Surveillance Requirement 3.8.1.16 for TS 3.8.1, “AC [Alternating Current] Sources-Operating” to remove 4.160 kilovolt (kV) bus 2 from the requirement to verify automatic transfer capability from the unit auxiliary transformer to the startup transformer.
Public Comments Received as to Proposed NSHC (Yes/No) | No.
Energy Harbor Nuclear Corp. and Energy Harbor Nuclear Generation LLC; Perry Nuclear Power Plant, Unit 1; Lake County, OH
Docket No(s) | 50-440.
Amendment Date | January 5, 2023.
ADAMS Accession No | ML22348A137.
Amendment No(s) | 199.
Brief Description of Amendment(s) | The amendment revised certain surveillance requirements (SRs) to add exceptions that consider the SR to be met when automatic valves or dampers are locked, sealed, or otherwise secured in the actuated position. The revisions are consistent with TSTF Traveler TSTF-541, Revision 2, “Add Exceptions to Surveillance Requirements for Valves and Dampers Locked in the Actuated Position.”
Public Comments Received as to Proposed NSHC (Yes/No) | No.
Northern States Power Company; Monticello Nuclear Generating Plant; Wright County, MN
Docket No(s) | 50-263.
Amendment Date | January 13, 2023.
ADAMS Accession No | ML23012A156.
Amendment No(s) | 210.
Brief Description of Amendment(s) | The amendment revised TS 5.6.3, “Core Operating Limits Report (COLR),” to allow the application of advanced Framatome, Inc., methodologies for determining the core operating limits in support of the loading of the Framatome, Inc. ATRIUM 11 fuel type at Monticello Nuclear Generating Plant. The amendment also revised TS 3.3.3.1, “Reactor Protection System (RPS) Instrumentation,” to remove reference to Enhanced Option III, which will no longer be used.
Public Comments Received as to Proposed NSHC (Yes/No) | No.
Southern Nuclear Operating Company, Inc.; Edwin I. Hatch Nuclear Plant, Units 1 and 2; Appling County, GA
Docket No(s) | 50-321, 50-366.
Amendment Date | December 22, 2022.
ADAMS Accession No | ML22297A146.
Amendment No(s) | 319 (Unit 1) and 264 (Unit 2).
Brief Description of Amendment(s) | The amendments revised Edwin I. Hatch Nuclear Plant, Unit Nos. 1 and 2, Technical Specifications requirements to permit the use of risk-informed completion times for actions to be taken when limiting conditions for operation are not met. The changes are based on TSTF Traveler TSTF-505, Revision 2, “Provide Risk-Informed Extended Completion Times—RITSTF [Risk-Informed TSTF] Initiative 4b.”
Public Comments Received as to Proposed NSHC (Yes/No) | No.
Tennessee Valley Authority; Browns Ferry Nuclear Plant, Units 1, 2, and 3; Limestone County, AL
Docket No(s) | 50-259, 50-260, 50-296.
Amendment Date | January 13, 2023.
ADAMS Accession No | ML22348A066.
Amendment No(s). | Browns Ferry 325 (Unit 1), 348 (Unit 2), and 308 (Unit 3).
Brief Description of Amendment(s) | The amendments revised Browns Ferry Nuclear Plant, Units 1, 2, and 3 TS 5.6.5.b, “Core Operating Limits Report,” to allow application of Advanced Framatome Methodologies for determining core operating limits in support of loading Framatome fuel type ATRIUM 11TM under the currently licensed Maximum Extended Load Line Limit Analysis Plus (MELLLA+) operating domain. As a result, methodologies that no longer apply were removed from TS 5.6.5, and new methodologies were added. Other conforming changes to the methodologies in TS 5.6.5 were also made. The amendments also deleted Note (f) from TS Table 3.3.1.1-1, “Reactor Protection System Instrumentation,” which no longer applies. The amendments also deleted a plant-specific report previously required at the time ATRIUM 10XM fuel was approved for use that is now no longer needed. Additionally, the amendments revised the TS safety limit for the minimum critical power (MCPR) based on TSTF Traveler TSTF-564-A, Revision 2, “Safety Limit MCPR.” Lastly, the amendments revised TS 5.6.5 to require the MCPR safety limit value be included in the core operating limits report.
Public Comments Received as to Proposed NSHC (Yes/No) | No.
Tennessee Valley Authority; Browns Ferry Nuclear Plant, Units 1, 2, and 3; Limestone County, AL; Tennessee Valley Authority; Sequoyah Nuclear Plant, Units 1 and 2; Hamilton County, TN; Tennessee Valley Authority; Watts Bar Nuclear Plant, Units 1 and 2; Rhea County, TN
Docket No(s) | 50-259, 50-260, 50-296, 50-327, 50-328, 50-390, 50-391.
Amendment Date | January 25, 2023.
ADAMS Accession No | ML22348A005.
Amendment No(s) | Browns Ferry 327 (Unit 1), 350 (Unit 2), 310 (Unit 3); Sequoyah 362 (Unit 1), 356 (Unit 2); and Watts Bar 159 (Unit 1), 67 (Unit 2).
Brief Description of Amendment(s) | The amendments revised each plant's technical specification definition of “Leakage”; clarified the requirements when pressure boundary leakage is detected; and added a Required Action when pressure boundary leakage is identified. The changes are in accordance with TSTF Traveler TSTF-554-A, Revision 1, “Revise Reactor Coolant Leakage Requirements,” which is part of the Consolidated Line Item Improvement Process.
Public Comments Received as to Proposed NSHC (Yes/No) | No.
Tennessee Valley Authority; Browns Ferry Nuclear Plant, Units 1, 2, and 3; Limestone County, AL; Tennessee Valley Authority; Sequoyah Nuclear Plant, Units 1 and 2; Hamilton County, TN; Tennessee Valley Authority; Watts Bar Nuclear Plant, Units 1 and 2; Rhea County, TN
Docket No(s) | 50-259, 50-260, 50-296, 50-327, 50-328, 50-390, 50-391.
Amendment Date | January 20, 2023.
ADAMS Accession No | ML22349A647.
Amendment No(s) | Browns Ferry 326 (Unit 1), 349 (Unit 2), 309 (Unit 3); Sequoyah 361 (Unit 1), 355 (Unit 2); and Watts Bar 158 (Unit 1), 66 (Unit 2).
Brief Description of Amendment(s) | The amendments revised Section 1.3, “Completion Times,” and Section 3.0, “Limiting Condition for Operation (LCO) Applicability” and “Surveillance Requirement (SR) Applicability,” of each plant's TSs to clarify the use and application of the TS usage rules and revised the application of SR 3.0.3 by adopting TSTF Traveler TSTF-529, Revision 4, “Clarify Use and Application Rules.” Specifically, TS Section 1.3 was revised to clarify “discovery,” and discuss exceptions to start the Completion Time at condition entry; TS Section 3.0 was revised to clarify that LCO 3.0.4.a, LCO 3.0.4.b, and LCO 3.0.4.c are independent options; and SR 3.0.3 was revised to allow application of SR 3.0.3 when an SR has not been previously performed and to clarify the application of SR 3.0.3.
Public Comments Received as to Proposed NSHC (Yes/No) | No.
Union Electric Company; Callaway Plant, Unit No. 1; Callaway County, MO
Docket No(s) | 50-483.
Amendment Date | January 30, 2023.
ADAMS Accession No | ML23019A175.
Amendment No(s) | 230.
Brief Description of Amendment(s) | The amendment adopted TSTF Traveler TSTF-577, “Revised Frequencies for Steam Generator Tube Inspections,” Revision 1, which is an approved change to the Standard Technical Specifications, into the Callaway Plant, Unit No. 1, Technical Specifications.
Public Comments Received as to Proposed NSHC (Yes/No) | No.

IV. Notice of Issuance of Amendments to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent circumstances or emergency situation associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its NSHC determination. In such case, the license amendment has been issued without opportunity for comment prior to issuance. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that NSHC is involved.

The Commission has applied the standards of 10 CFR 50.92 and has made a final determination that the amendments involve NSHC. The basis for this determination is contained in the documents related to each action. Accordingly, the amendment has been issued and made effective as indicated. For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuance—Exigent/Emergency Circumstances
Susquehanna Nuclear, LLC and Allegheny Electric Cooperative, Inc.; Susquehanna Steam Electric Station, Unit 2; Luzerne County, PA
Docket No(s) | 50-388.
Amendment Date | January 15, 2023.
ADAMS Accession No | ML23010A108.
Amendment No(s) | 268.
Brief Description of Amendment(s) | The amendment revised Susquehanna Steam Electric Station, Unit 2, TS 3.1.3, “Control Rod OPERABILITY,” 3.1.6, “Rod Pattern Control,” and 3.3.2.1, “Control Rod Block Instrumentation,” by adding references to the analyzed rod position sequence to temporarily allow for greater flexibility in rod manipulation during various stages of reactor power operation. In its application, the licensee requested that the NRC process the proposed amendment under emergency circumstances to support restarting the plant after a maintenance outage. The license amendment was issued under emergency circumstances as provided in the provisions of 10 CFR 50.91(a)(5) because of the time critical nature of the amendment.
Local Media Notice (Yes/No) | No.
Public Comments Requested as to Proposed NSHC (Yes/No) | No.

Dated: February 13, 2023.
For the Nuclear Regulatory Commission.
Jamie M. Heisserer,
Deputy Director, Division of Operating Reactor Licensing, Office of Nuclear Reactor Regulation.

[FR Doc. 2023-03494 Filed 2-17-23; 8:45 am]

BILLING CODE 7590-01-P